DEPARTMENT OF AGRICULTURE

Forest Service

Notice of Meeting; Federal Lands Recreation Enhancement Act, (Title VIII, Pub. L. 108-447)

AGENCY: Pacific Northwest Region, USDA Forest Service.

ACTION: Notice of meeting.

SUMMARY: The Pacific Northwest Recreation Resource Advisory Committee will meet in Portland, OR. The purpose of the meeting is to review and provide recommendations on recreation fee proposals for facilities and services offered on lands managed by the Forest Service and Bureau of Land Management in Oregon and Washington, under the Federal Lands Recreation Enhancement Act of 2004.

DATES: The meeting will be held on October 30, 2008 from 8:30 a.m.-5 p.m. and October 31, 2008 from 8:30 a.m.-4 p.m. A public input session will be provided at 10:30 a.m. on both days of the meeting. Comments will be limited to three minutes per person. The Designated Federal Official has discretion to not convene the committee on October 31, 2008, if necessary.

ADDRESSES: The meeting will be at the Residence Inn by Marriott, Lloyd Center, 1710 NE. Multnomah St., Portland, Oregon 97232. Send written comments to Dan Harkenrider, Designated Federal Official for the Pacific Northwest Recreation RAC, 902 Wasco Street, Suite 200, Hood River, OR 97031, 541-308-1700 or dharkenrider@fs.fed.us.

FOR FURTHER INFORMATION CONTACT: Dan Harkenrider, Designated Federal Official, 902 Wasco Street, Suite 200, Hood River, OR 97031, 541-308-1700.

SUPPLEMENTARY INFORMATION: The meeting is open to the public. Recreation RAC discussion is limited to Forest Service and Bureau of Land Management staff and Recreation RAC members. However, persons who wish to bring recreation fee matters to the attention of the Committee may file written statements with the Committee staff before or after the meeting. The Recreation RAC is authorized by the Federal Land Recreation Enhancement Act, which was signed into law by President Bush in December 2004.

Dated: October 10, 2008.
Calvin N. Joyner,
Acting Regional Forester, Pacific Northwest Region, USDA Forest Service.

[FR Doc. E8-24810 Filed 10-20-08; 8:45 am]

BILLING CODE 3410-11-M